DEPARTMENT OF TRANSPORTATION

Federal Transit Administration

Debt Service Reserve Reimbursement Pilot Program

AGENCY: Federal Transit Administration (FTA), DOT.

ACTION: Amendment of notice establishing Debt Service Reserve Pilot Program to include a class of participant; correction.

SUMMARY: The Federal Transit Administration published in the Federal Register of December 28, 2006, a notice establishing the Debt Service Reserve Pilot Program as authorized under the Safe, Accountable, Flexible, Efficient Transportation Equity Act—a Legacy for Users. Inadvertently, an eligible class of participant in the pilot program was omitted. This document corrects that oversight.

DATES: Effective on February 13, 2007.

FOR FURTHER INFORMATION CONTACT: Paul L. Marx, 202-366-1675; E-MAIL: paul.marx@dot.gov.

SUPPLEMENTARY INFORMATION: FTA published a notice in the Federal Register of December 28, 2006, at 71 FR 78267-78268, to establish a Debt Service Reserve Pilot Program that allows certain public transportation providers to seek reimbursement of their deposits of bond proceeds in a debt service account. This correction extends eligibility to apply under the pilot program to “an entity engaged by such [i.e., eligible Formula Grant Program (Section 5307) recipient] provider to design, build, operate and maintain a project eligible under Section 5307.” This eligibility is important because it provides additional opportunities for supporting public-private partnerships in public transportation. Further, typographical errors in the original notice are corrected.

1. In FR 71 published on December 28, 2006, (71 FR 78267) on page 78267, column 3, SUMMARY, remove “pubic” and insert in its place “public”.

2. On page 78267, column 3, A. Authority, remove “5323(d)(4)” and insert in its place “5323(e)(3)”.

3. On page 78268, column 1, section 1 (C), insert after “(Section 5307)”: “(or an eligible entity engaged by such provider to design, build, operate and maintain a project eligible under Section 5307) * * *”

4. On page 78268, column 1, section 1 (D), remove “blood” and insert in its place “bond”.

A complete version of the Federal Register notice, revised to incorporate the changes described above, appears on the FTA Web site at http://www.fta.dot.gov.

Issued on February 7, 2007.
James S. Simpson,
Administrator.

[FR Doc. E7-2410 Filed 2-12-07; 8:45 am]

BILLING CODE 4910-57-P